DEPARTMENT OF TRANSPORTATION

Federal Aviation Administration

Aviation Rulemaking Advisory Committee; General Aviation Certification and Operations Issues—New Task

AGENCY: Federal Aviation Administration (FAA), DOT.

ACTION: Notice of new task assignment for the Aviation Rulemaking Advisory Committee (ARAC).

SUMMARY: The FAA has assigned the Aviation Rulemaking Advisory Committee a new task to develop recommendations for improving occupant protection standards. This notice is to inform the public of this ARAC activity.

FOR FURTHER INFORMATION CONTACT: Leslie Taylor, 901 Locust, Kansas City, Missouri 64106, (816) 329-4134, leslie.b.taylor@faa.gov.

SUPPLEMENTARY INFORMATION:

Background

The FAA has established the Aviation Rulemaking Advisory Committee to provide advice and recommendations to the FAA Administrator on the FAA's rulemaking activities with respect to aviation-related issues.

The Task

Review occupant protection standards and recommend rulemaking in the form of a Notice of Proposed Rulemaking (NPRM) to address criteria for improved occupant protection more commonly used on part 23 airplanes and requirements that would improve the safety of part 23 airplanes. The NPRM should include the preamble and rule language, along with any supporting legal analysis.

The following are to be included in the ARAC evaluation:

• Flammability Standards for Seat Fireblocking Provisions,

• Standardization of Emergency Landing Dynamic Conditions,

• Thermal/Acoustic Insulation Flammability,

• Airworthiness Certification of Airplanes Used in Cargo/Passenger Combination Operations,

• Emergency Exit Markings,

• Emergency Exit Access, and

• Electric Cables and Equipment.

Schedule: ARAC should forward its recommendations to the FAA within 1 year of task assignment.

ARAC Acceptance of Tasks

ARAC accepted the task and assigned the task to the Flammability Standards for Commuter Airplane Seats Working Group, General Aviation Certification and Operations Issues. The working group will serve as staff to ARAC and assist in the analysis of the assigned task. ARAC must review and approve the working group's recommendations. If ARAC accepts the working group's recommendations, it forwards them to the FAA as ARAC recommendations. The agency seeks ARAC's advice and recommendations on these important issues. Recommendations that are received from ARAC will be submitted to the agency's Rulemaking Management Council to address the availability of resources and prioritization.

Working Group Activity

The Flammability Standards for Commuter Airplane Seats Working Group is expected to comply with the procedures adopted by ARAC. As part of the procedures, the working group is expected to:

1. Recommend a work plan for completion of the task, including the rationale supporting such a plan for consideration at the meeting of the ARAC General Aviation Certification and Operations Issues held following publication of this notice.

2. Give a detailed conceptual presentation of the proposed recommendations, prior to proceeding with the work stated in item 3 below.

3. Draft the appropriate documents and required analyses and/or any other related materials or documents.

4. Provide a status report at each meeting of the ARAC held to consider ARAC General Aviation Certification and Operations Issues.

Participation in the Working Group

The Flammability Standards for Commuter Airplane Seats Working Group is composed of technical experts having an interest in the assigned task. A working group member need not be a representative or a member of the full committee.

An individual who has expertise in the subject matter and wishes to become a member of the working group should write to the person listed under the caption FOR FURTHER INFORMATION CONTACT expressing that desire, describing his or her interest in the task and stating the expertise he or she would bring to the work group. All requests to participate must be received by March 30, 2001. The requests will be reviewed by the co-assistant chairs, the co-assistant executive directors, and the working group chair. Individuals will be advised whether or not their request can be accommodated.

Individuals chosen for membership on the working group are expected to represent their aviation community segment and participate actively in the working group (e.g., attend all meetings, provide written comments when requested to do so, etc.). They also are expected to devote the resources necessary to support the working group in meeting any assigned deadlines. Members are expected to keep their management chain and those they may represent advised of working group activities and decisions to ensure that the proposed technical solutions do not conflict with their sponsoring organization's position when the subject being negotiated is presented to ARAC for approval.

Once the working group has begun deliberations, members will not be added or substituted without the approval of the co-assistant chairs, the co-assistant executive directors, and the working group chair.

The Secretary of Transportation has determined that the formation and use of the ARAC is necessary and in the public interest in connection with the performance of duties imposed on the FAA by law.

Meetings of the ARAC will be open to the public. Meetings of the Flammability Standards for Commuter Airplane Seats Working Group will not be open to the public, except to the extent that individuals with the interest and expertise are selected to participate. The FAA will make no public announcement of working group meetings.

Issued in Washington, DC, on March 1, 2001.
Anthony F. Fazio,
Executive Director, Aviation Rulemaking Advisory Committee.

[FR Doc. 01-6095 Filed 3-9-01; 8:45 am]

BILLING CODE 4910-13-M